DEPARTMENT OF HEALTH AND HUMAN SERVICES

Centers for Disease Control and Prevention

Notice of Award of a Single-Source Cooperative Agreement To Fund the International Organization for Migration (IOM)

AGENCY: Centers for Disease Control and Prevention (CDC), Department of Health and Human Services (HHS).

ACTION: Notice.

SUMMARY: The Centers for Disease Control and Prevention (CDC), located within the Department of Health and Human Services (HHS), announces the award of approximately $1,000,000, for Year 1 to International Organization for Migration (IOM). The award will support public health activities for refugees, immigrants and migrants that are US-bound through the United States Refugee Admission Program and in the United States. Funding amounts for years 2-5 will be set at continuation.

DATES: The period for this award will be September 30, 2023, through September 29, 2028.

FOR FURTHER INFORMATION CONTACT: Travis Myers, Division of Global Migration and Quarantine, Immigrant, Refugee, and Migrant Health Branch, Centers for Disease Control and Prevention, 1600 Clifton Rd. NE, MS H16-4, Atlanta, GA 30329, Telephone: 770-530-6449, Email: QRK4@cdc.gov.

SUPPLEMENTARY INFORMATION: The single-source award will establish surveillance for infectious diseases in new locations, evaluate the health status of U.S. bound migrants for the purposes of informing and improving U.S. policy regarding overseas and post-arrival health assessment with physicians and prevent the importation and spread of infectious disease into the United States due to a global decrease in routine immunization coverage and an increase in vaccine-preventable diseases outbreaks.

International Organization of Migration is in a unique position to conduct this work, as it carries out the aims of the program due to its work supporting screening activities of U.S. bound populations with all US Panel Physicians. IOM is an international and intergovernmental organization that has the technical and administrative capacity to conduct health assessment activities to support diseases.

Summary of the Award

Recipient: International Organization of Migration (IOM).

Purpose of the Award: The purpose of this award is to support activities to prevent and control efforts for infectious diseases, including vaccine-preventable disease, in U.S.-bound refugee populations, as well as U.S.-bound immigrant, non-immigrant visa (NIV) applicants, parolees and other migrant categories (from hereto called U.S.-bound migrants) worldwide.

Amount of Award: $1,000,000 in Federal Fiscal Year (FFY) 2023 funds, subject to the availability of funds. Funding amounts for years 2-5 will be set at continuation.

Authority: This program is authorized under the Public Health Service Act, sections 307 and 317(k)(1) [42 U.S.C. 2421 and 247b(k)(1)].

Period of Performance: September 30, 2023, through September 29, 2028.

Dated: April 21, 2023.
Terrance Perry,
Chief Grants Management Officer, Centers for Disease Control and Prevention.

[FR Doc. 2023-08790 Filed 4-25-23; 8:45 am]

BILLING CODE 4163-18-P